COMMISSION ON CIVIL RIGHTS

Agenda and Notice of Public Meeting of the New Mexico Advisory Committee

Notice is hereby given, pursuant to the provisions of the rules and regulations of the U.S. Commission on Civil Rights, that a conference call of the New Mexico State Advisory Subcommittee will convene at 12 p.m. (m.s.t.) and adjourn at 1:15 p.m. (m.s.t.) on Thursday, March 11, 2004. The purpose of this conference call will be to engage in planning for the Committee's upcoming public forum in Farmington, NM.

This conference call is available to the public through the following call-in number: 1-800-923-4206, confirmation no. 21982531. Any interested member of the public may call this number and listen to the meeting. Callers can expect to incur charges for calls not initiated using the supplied call-in number or made over wireless lines, and the Commission will not refund any incurred charges. Callers will incur no charge for calls using the call-in number over land-line connections. Persons with hearing impairments may also follow the proceedings by first calling the Federal Relay Service at 1-800-977-8339 and providing the Service with the conference call number and confirmation number.

To ensure that the Commission secures an appropriate number of lines for the public, persons are asked to register by contacting John Dulles, Director of the Rocky Mountain Regional Office, (303) 866-1040 (TTY 303-866-1049), by 4 p.m. on Tuesday, March 9, 2004. The subcommittee meeting will be conducted pursuant to the provisions of the rules and regulations of the Commission.

Dated at Washington, DC, February 17, 2004.
Dawn Sweet,
Editor.

[FR Doc. 04-4750 Filed 3-2-04; 8:45 am]

BILLING CODE 6335-01-P